DEPARTMENT OF COMMERCE

International Trade Administration

Notice of Scope Rulings

AGENCY: Enforcement and Compliance, International Trade Administration, Department of Commerce.

DATES: Applicable August 27, 2019.

SUMMARY: The Department of Commerce (Commerce) hereby publishes a list of scope rulings and anti-circumvention determinations made between July 1, 2018, and September 30, 2018, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that the Secretary will publish in the Federal Register a list of scope rulings on a quarterly basis.¹ Our most recent notification of scope rulings was published on July 29, 2019.² This current notice covers all scope rulings and anti-circumvention determinations made by Enforcement and Compliance between July 1, 2018, and September 30, 2018, inclusive.

¹ See 19 CFR 351.225(o).

² See Notice of Scope Rulings, 84 FR 36577 (July 29, 2019).

Scope Rulings Made Between July 1, 2018 and September 30, 2018

Canada

A-122-857 and C-122-858: Certain Softwood Lumber Products From Canada

Requestor: Tumac Lumber Co., Inc. (Tumac); railroad ties imported by Tumac are within the scope of the antidumping duty (AD) and countervailing duty (CVD) orders because the physical description of the product is expressly covered by the language of the scope; July 26, 2018.

A-122-857 and C-122-858: Certain Softwood Lumber Products From Canada

Requestor: Shake and Shingle Alliance (SSA); SSA's cedar shakes and shingles are within the scope of the AD and CVD orders based on the language of the scope and the additional factors enumerated in 19 CFR 351.225(k)(1); September 10, 2018.

Japan

A-588-851 and A-485-505: Carbon and Alloy Seamless Standard, Line, and Pressure Pipe (Under 4.5 Inches) From Japan and Romania

Requestor: TMK IPSCO; the four Romanian-origin steel coupling stock products with specific combinations of outer dimeter and wall thickness were determined to be covered by the scope of the orders based on the unambiguous, plain language of the scope, i.e., they are made to the API 5L specification and are within the physical parameters described in the scope; July 18, 2018.

A-583-831; A-580-834; A-588-845; C-580-835: Stainless Steel Sheet and Strip in Coils From Japan, the Republic of Korea and Taiwan

Requestor: Sumitomo, Inc.; based on the plain language of the scope of the orders Sumitomo's suspension foil is outside the scope of the orders; August 17, 2018.

People's Republic of China

A-570-814: Carbon Steel Butt-Weld Pipe Fittings From the People's Republic of China

Requestor: Vandewater International Inc.; threaded or grooved CEREICO brand steel branch outlets are within the scope of the AD order; September 10, 2018.

A-570-051 and C-570-052: Certain Hardwood Plywood Products From the People's Republic of China

Requestors: Coalition for Fair Trade in Hardwood Plywood and Masterbrand Cabinets Inc.; the following merchandise is within the scope of the AD and CVD orders on certain hardwood plywood products from the People's Republic of China because they are covered by the plain language of the scope of the orders: (1) Hardwood plywood that has been cut-to-size, painted, laminated, stained, ultra violet light finished, grooved, and/or covered in paper, regardless of where such processing took place; (2) hardwood plywood that has been edge-banded; and (3) shipments of hardwood plywood that do not qualify for the ready-to-assemble kitchen cabinet exclusion; September 7, 2018.

A-570-881: Certain Malleable Cast Iron Pipe Fittings From the People's Republic of China

Requestor: Atkore Steel Components, Inc. (Atkore); the following electrical conduit fittings are outside the scope of the AD order: (1) Electrical conduit bodies range in size from 4 inches to ½ inch in diameter, meeting Underwriters Laboratories (UL) safety standards 514A, and including electrical box-fill information; (2) cast iron electrical conduit nipples (i.e., pieces which extend a run of conduit or connect/attach similar conduit articles) meeting UL 514B Safety Standards (generally stamped with a UL Mark); (3) Cast iron electrical conduit couples and connectors (i.e., pieces of electrical conduit that join two other pieces of electrical conduit together) meeting UL 514B Safety Standards (generally stamped with a UL Mark). Commerce found that, in contrast to malleable cast iron pipe fittings, Atkore's electrical conduit fittings were not designed to withstand pressure, are not intended for use with liquids, and are produced to a different industry standard; August 13, 2018.

A-570-891: Hand Trucks and Certain Parts Thereof from the People's Republic of China

Requestor: Makita U.S.A., Inc; the Trolley for MAKPAC, Model #TR00000002, is outside the scope of the AD order because it lacks a “projecting edge” or “toe plate” that is capable of sliding under a load for purposes of lifting and/or moving the load; July 17, 2018.

A-570-875: Non-Malleable Cast Iron Pipe Fittings From the People's Republic of China

Requestor: Tyco Fire Products, LP (TFP); TFP's grooved ductile fittings identified by the product names 730ERS, 750, and 510DE are outside the scope of the AD order because they meet the exclusion language of the scope for grooved fittings or grooved couplings, and TFP's threaded ductile fittings identified by the product names 730ES and 40-5 are within the scope of the order because the subject fittings do not meet the scope exclusion for ductile fittings with push on ends; July 26, 2018.

A-570-016 and C-570-017: Passenger Vehicle and Light Truck Tires From the People's Republic of China

Requestor: Giti Tire (USA) Ltd. (GITI); certain radial spare tires, marketed exclusively for temporary/emergency use, listed in Table PCT-1B of the 2014 Tire and Rim Association Year Book that was in effect at the time the AD and CVD orders were issued and listed in Table PCT-1R of the 2017 Tire and Rim Association Year Book are not covered by the scope of the orders; July 11, 2018.

Anti-Circumvention Determinations Made Between July 1, 2018 and September 30, 2018

The People's Republic of China

A-570-029 and C-570-030: Certain Cold-Rolled Steel Flat Products From the People's Republic of China

Requestors: Steel Dynamics, Inc. (SDI), California Steel Industries (CSI), ArcelorMittal USA LLC (AMUSA), Nucor Corporation (Nucor), United States Steel Corporation, and AK Steel Corporation. Commerce determines that cold-rolled steel produced in Vietnam from hot-rolled steel substrate manufactured in China is circumventing the AD and CVD orders on cold-rolled steel from China. Commerce determines that the cold-rolled steel produced in Vietnam from hot-rolled steel substrate manufactured in China falls within the orders covering cold-rolled steel from China; August 17, 2018.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: August 19, 2019.
James Maeder,
Deputy Assistant Secretary for Antidumping and Countervailing Duty Operations.

[FR Doc. 2019-18369 Filed 8-26-19; 8:45 am]

BILLING CODE 3510-DS-P